DEPARTMENT OF COMMERCE

International Trade Administration

[A-533-808]

Stainless Steel Wire Rod From India; Final Results of Antidumping Duty Administrative Review

Correction

In notice document 02-13391 beginning on page 37391 in the issue of Wednesday May 29, 2002, make the following correction:

On page 37391, in the third column, under the EFFECTIVE DATE: heading, “June 28, 2002” should read “May 29, 2002”.

[FR Doc. C2-13391 Filed 6-3-02; 8:45 am]

BILLING CODE 1505-01-D